DEPARTMENT OF DEFENSE

Department of the Air Force

[Docket ID: USAF-2014-0015]

Proposed Collection; Comment Request

AGENCY: Department of the Air Force, DoD.

ACTION: Notice.

SUMMARY: In compliance with the Paperwork Reduction Act of 1995, the Department of the Air Force announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 8, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Air Force Office of Scientific Research, ATTN: AFOSR/RSPE, 875 North Randolph Street, Suite 325, Room 3112, Arlington, VA 22203 or AFOSR/IO at 703-696-7316.

SUPPLEMENTARY INFORMATION: Title; Associated Form; and OMB Number: Summer Faculty Fellowship Program (SFFP and the USAF/NRC Resident Research Associateships Program on-line application and associated acceptance forms; OMB Control Number 0701-0155.

Needs and Uses: The Air Force Office of Scientific Research (AFOSR) manages the entire basic research investment for the U.S. Air Force. As part of the Air Force Research Laboratory (AFRL), AFOSR's technical experts support and fund research programs within the AFRL and other Air Force research activities. Applications for fellowships and associateships at AFRL research sites and the research activities at the U.S. Air Force Academy, and Air Force Institute of Technology (AFIT) and the associated award forms provide information used to identify some of the nation's most talented scientific personnel for award of fellowships and associateships at Air Force research activities. Summer fellowships provide research opportunities for 8-14 weeks at an Air Force research site. Research Associates generally spend 1 to 3 years at an Air Force research site. SFFP and NRC/RRA provide postdoctoral and senior scientists and engineers of unusual promise and ability, opportunities for conducting research on problems that are defense requirements. Application information will be used for evaluation and selection of scientists and engineers to be awarded fellowships and associateships. Failure to respond renders the applicant ineligible for a fellowship.

Affected Public: Individuals or households.

Annual Burden Hours: 5,760 hours.

Number of Respondents: 360.

Responses per Respondent: 1.

Annual Responses: 360.

Average Burden per Response: 16 hours.

Frequency: Annually (SFFP) and quarterly (NCR/RRA).

Respondents are postdoctoral, senior, and university scientists and engineers desiring to conduct stimulating research projects and activities at Air Force research sites. The on-line, electronic application process provides information necessary for evaluation and selection of researchers. Associated award forms provide required information for direct deposit of stipends and reporting to the IRS.

Dated: October 5, 2015.
Aaron Siegel,
Alternate OSD Federal Register Liaison Officer, Department of Defense.

[FR Doc. 2015-25796 Filed 10-8-15; 8:45 am]

BILLING CODE 5001-06-P